DEPARTMENT OF THE TREASURY

Submission for OMB Review; Comment Request

August 20, 2013.

The Department of the Treasury will submit the following information collection requests to the Office of Management and Budget (OMB) for review and clearance in accordance with the Paperwork Reduction Act of 1995, Public Law 104-13, on or after the date of publication of this notice.

DATES: Comments should be received on or before September 25, 2013 to be assured of consideration.

ADDRESSES: Send comments regarding the burden estimate, or any other aspect of the information collection, including suggestion for reducing the burden, to (1) Office of Information and Regulatory Affairs, Office of Management and Budget, Attention: Desk Officer for Treasury, New Executive Office Building, Room 10235, Washington, DC 20503, or email at OIRA_Submission@OMB.EOP.GOV and (2) Treasury PRA Clearance Officer, 1750 Pennsylvania Ave. NW., Suite 8140, Washington, DC 20220, or email at PRA@treasury.gov.

FOR FURTHER INFORMATION CONTACT: Copies of the submission(s) may be obtained by calling (202) 927-5331, email at PRA@treasury.gov, or the entire information collection request maybe found at www.reginfo.gov.

Internal Revenue Service (IRS)

OMB Number: 1545-0962.

Type of Review: Extension without change of a currently approved collection.

Title: Tax Information Security Guidelines for Federal, State, and Local Agencies.

Abstract: Internal Revenue Code section 6103(p) requires that IRS provide periodic reports to Congress describing safeguard procedures, utilized by agencies which receive information from the IRS, to protect the confidentiality of the information. This section also requires that these agencies furnish reports to the IRS describing their safeguards.

Affected Public: State, Local, and Tribal Governments.

Estimated Annual Burden Hours: 204,000.

OMB Number: 1545-1863.

Type of Review: Extension without change of a currently approved collection.

Title: IRS e-file Signature Authorization for Form 1120S.

Form: 8879-S.

Abstract: Form 8879-S authorizes an officer of a corporation and an electronic return originator (ERO) to use a personal identification number (PIN) to electronically sign a corporation's electronic income tax return and, if applicable, Electronic Funds Withdrawal Consent.

Affected Public: Private sector: Businesses and other for-profits.

Estimated Annual Burden Hours: 74,181.

OMB Number: 1545-1580.

Type of Review: Extension without change of a currently approved collection.

Title: Compensation Deferred Under Eligible Deferred Compensation Plans (TD 9075).

Abstract: Final regulation provides guidance regarding the trust requirements for certain eligible deferred compensation plans enacted in the Small Business Job Protection Act of 1996.

Affected Public: State, Local, and Tribal Governments.

Estimated Annual Burden Hours: 10,600.

OMB Number: 1545-2036.

Type of Review: Extension without change of a currently approved collection.

Title: Taxation and Reporting of REIT Excess Inclusion Income (Notice 2006-97).

Abstract: The notice requires certain REITs, RICs, partnerships and other Pass-Through Entities that have excess inclusion income to disclose the amount and character of such income allocable to their record interest owners. The record interest owners need the information to properly report and pay taxes on such income.

Affected Public: Private sector: Businesses and other for-profits.

Estimated Annual Burden Hours: 100.

OMB Number: 1545-2161.

Type of Review: Extension without change of a currently approved collection.

Title: Information Return for Build America Bonds and Recovery Zone Economic Development Bonds.

Form: 8038-B.

Abstract: Form 8038-B has been developed to assist issuers of the new types of Build America and Recovery Zone Economic Development Bonds, enacted under the American Recovery and Reinvestment Act of 2009, to capture information required by IRC section 149(e).

Affected Public: State, Local, and Tribal Governments.

Estimated Annual Burden Hours: 113,661.

OMB Number: 1545-2162.

Type of Review: Extension without change of a currently approved collection.

Title: HCTC Medicare Family Member Registration Form.

Form: 14117.

Abstract: Section 1899E, Health Coverage Improvement, of the ARRA, authorizes the continuation of HCTC benefits for qualified family members after the original HCTC candidate has been canceled from the program due to Medicare enrollment. The original HCTC candidate will complete this form in order to continue enrollment for or to register their family members in the monthly HCTC program.

Affected Public: Individuals or households.

Estimated Annual Burden Hours: 1,200.

Dawn D. Wolfgang,
Treasury PRA Clearance Officer.

[FR Doc. 2013-20639 Filed 8-23-13; 8:45 am]

BILLING CODE 4830-01-P